DEPARTMENT OF ENERGY

Federal Energy Regulatory Commission

[Project No. 14868-000]

Pioneer Valley Renewables; Notice of Preliminary Permit Application Accepted for Filing and Soliciting Comments, Motions To Intervene, and Competing Applications

On February 13, 2018, Pioneer Valley Renewables, filed an application for a preliminary permit, pursuant to section 4(f) of the Federal Power Act (FPA), proposing to study the feasibility of the Scotlandville Bend Project (Scotlandville Project or project) to be located on the Mississippi River, in West Baton Rouge and East Baton Rouge Parishes, Louisiana. The sole purpose of a preliminary permit, if issued, is to grant the permit holder priority to file a license application during the permit term. A preliminary permit does not authorize the permit holder to perform any land-disturbing activities or otherwise enter upon lands or waters owned by others without the owners' express permission.

The proposed project would consist of the following: (1) Four underwater, carbon fiber shroud and blade design turbine-generating units, each with a diameter of 18 meters and a cross section of 4 meters; (2) each pair of units will be mounted on a riverbed secured piling, 30 meters apart; (3) flexible cables would convey power to a metering station; and (4) a transmission line would interconnect with the power grid. Each unit would have an installed capacity of 1.5 megawatts for a total generating capacity of 6 megawatts. The proposed project would have an estimated average annual generation of 40,000 megawatt-hours, which would be sold.

Applicant Contact: Mr. Mark D. Farb, Pioneer Valley Renewables, 240 Central Avenue, 1J, Lawrence, New York 11559; phone: (631) 552-0284.

FERC Contact: Michael Spencer, (202) 502-6093, michael.spencer@ferc.gov

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14868-000.

More information about this project, including a copy of the application, can be viewed or printed on the eLibrary link of Commission's website at http://www.ferc.gov/docs-filing/elibrary.asp. Enter the docket number (P-14868) in the docket number field to access the document. For assistance, contact FERC Online Support.

Dated: March 7, 2018.
Kimberly D. Bose,
Secretary.

[FR Doc. 2018-05110 Filed 3-13-18; 8:45 am]

BILLING CODE 6717-01-P